DEPARTMENT OF COMMERCE

International Trade Administration

[A-570-010, C-570-011]

Crystalline Silicon Photovoltaic Products From the People's Republic of China: Preliminary Results of Changed Circumstances Reviews, and Intent To Revoke the Antidumping and Countervailing Duty Orders, in Part

AGENCY: Enforcement and Compliance, International Trade Administration, Department of Commerce.

SUMMARY: On August 8, 2022, the U.S. Department of Commerce (Commerce) received a request for revocation, in part, of the antidumping duty (AD) and countervailing duty (CVD) orders on crystalline silicon photovoltaic products (solar products) from the People's Republic of China (China), from Shenzen Hello Tech Energy Co., Ltd. (Hello Tech) with respect to certain off-grid small portable crystalline silicon photovoltaic (CSPV) panels as described below. We preliminary determine to revoke, in part, the solar products AD and CVD orders with respect to these products. Interested parties are invited to comment on these preliminary results.

DATES: Applicable March 7, 2023.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On February 18, 2015, Commerce published the AD and CVD orders on solar products from China.¹ On August 8, 2022, Hello Tech, a Chinese producer and exporter of subject merchandise, requested that Commerce conduct changed circumstances reviews (CCR) to find that it is appropriate to revoke the Orders, in part, with respect to certain off-grid small portable CSPV panels, pursuant to section 751(b)(1) of the Tariff Act of 1930, as amended (the Act), and 19 CFR 351.216(b).² Hello Tech's CCR request included a letter from the American Alliance for Solar Manufacturing (the Alliance) (a coalition of domestic producers of solar cells), which stated that the Alliance did not oppose Hello Tech's request for changed circumstances reviews and its proposed exclusion language.³ On September 29, 2022, we published the notice of initiation of the requested CCRs.⁴ In the Initiation Notice we invited interested parties to provide comments and/or factual information regarding these CCRs, including comments on industry support and the proposed partial revocation language.⁵ We received no comments or factual information.

¹ See Certain Crystalline Silicon Photovoltaic Products from the People's Republic of China: Antidumping Duty Order; and Amended Final Affirmative Countervailing Duty Determination and Countervailing Duty Order, 80 FR 8592 (February 18, 2015) (collectively, Orders).

² See Hello Tech's Letter, “Certain Crystalline Silicon Photovoltaic Products from the People's Republic of China: Hello Tech's Resubmitted Request for Changed Circumstances Reviews,” dated August 8, 2022 (CCR Request).

³ Id. at Exhibit 7.

⁴ See Crystalline Silicon Photovoltaic Products from the People's Republic of China: Notice of Initiation of Changed Circumstances Reviews, and Consideration of Revocation of the Antidumping and Countervailing Duty Orders in Part, 87 FR 59043 (September 29, 2022) (Initiation Notice).

⁵ Id., 87 FR at 59044.

Scope of the Orders

The merchandise covered by these Orders is modules, laminates and/or panels consisting of crystalline silicon photovoltaic cells, whether or not partially or fully assembled into other products, including building integrated materials. For purposes of these Orders, subject merchandise includes modules, laminates and/or panels assembled in China consisting of crystalline silicon photovoltaic cells produced in a customs territory other than China. Subject merchandise includes modules, laminates and/or panels assembled in China consisting of crystalline silicon photovoltaic cells of thickness equal to or greater than 20 micrometers, having a p/n junction formed by any means, whether or not the cell has undergone other processing, including, but not limited to, cleaning, etching, coating, and/or addition of addition of materials (including, but not limited to, metallization and conductor patterns) to collect and forward the electricity that is generated by the cell.

Excluded from the scope of the Orders are thin film photovoltaic products produced from amorphous silicon (a-Si), cadmium telluride (CdTe), or copper indium gallium selenide (CIGS). Also excluded from the scope of these Orders are modules, laminates and/or panels assembled in China, consisting of crystalline silicon photovoltaic cells, not exceeding 10,000 mm² in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good.

Further, also excluded from the scope of these Orders are any products covered by the existing antidumping and countervailing duty orders on crystalline silicon photovoltaic cells, whether or not assembled into modules, laminates and/or panels, from China. Additionally, excluded from the scope of these Orders are solar panels that are: (1) less than 300,000 mm² in surface area; (2) less than 27.1 watts in power; (3) coated across their entire surface with a polyurethane doming resin; and (4) joined to a battery charging and maintaining unit (which is an acrylonitrile butadiene styrene (ABS) box that incorporates a light emitting diode (LED)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.” Also excluded from the scope of these Orders are off-grid crystalline silicon photovoltaic panels without a glass cover with the following characteristics: (1) total power output of 500 watts or less per panel; (2) maximum surface area of 8,000 cm² per panel; (3) unit does not include a built-in inverter; (4) unit has visible parallel grid collector metallic wire lines every 2-40 millimeters across each solar panel (depending on model); (5) solar cells are encased in laminated frosted PET material without stitching; (6) the panel is encased in polyester fabric with visible stitching which includes a Velcro-type storage pocket and unit closure, or encased within a Neoprene clamshell (depending on model); and (7) includes LED indicator.

Merchandise covered by these Orders is currently classified in the Harmonized Tariff Schedule of the United States (HTSUS) under subheadings 8501.61.0000, 8507.20.8030, 8507.20.8040, 8507.20.8060, 8507.20.8090, 8541.40.6015, 8541.40.6020, 8541.40.6030, 8541.40.6035 and 8501.31.8000. These HTSUS subheadings are provided for convenience and customs purposes; the written description of the scope of these Orders is dispositive.⁶

⁶ See Orders.

Scope of the CCRs

Hello Tech requests that Commerce revoke the Orders, in part, to exclude from the scope off-grid portable crystalline silicon photovoltaic panels, with or without a glass cover, with the following characteristics:

(A) a total power output of 200 watts or less per panel;

(B) a maximum surface area of 16,000 cm² per panel;

(C) no built-in inverter;

(D) an integrated handle or a handle attached to the package for ease of carry;

(E) one or more integrated kickstands for easy installation or angle adjustment; and

(F) a wire of not less than 3 meters either permanently connected or attached to the package that terminates in an 8mm diameter male barrel connector.

Preliminary Results of CCRs and Intent To Revoke the Orders, in Part

Pursuant to section 751(d)(1) of the Act, and 19 CFR 351.222(g), Commerce may revoke an AD or CVD order, in whole or in part, based on a review under section 751(b) of the Act (i.e., a CCR). Section 751(b)(1) of the Act requires a CCR to be conducted upon receipt of a request which shows changed circumstances sufficient to warrant a review. Section 782(h)(2) of the Act gives Commerce the authority to revoke an order if producers accounting for substantially all of the production of the domestic like product have expressed a lack of interest in the order. Section 351.222(g) of Commerce's regulations provides that Commerce will conduct a CCR of an AD or CVD order under 19 CFR 351.216, and may revoke an order (in whole or in part), if it concludes that: (i) producers accounting for substantially all of the production of the domestic like product to which the order pertains have expressed a lack of interest in the relief provided by the order, in whole or in part; or (ii) if other changed circumstances sufficient to warrant revocation exist. Thus, both the Act and Commerce's regulations require that “substantially all” domestic producers express a lack of interest in the order for Commerce to revoke the order, in whole or in part.⁷ In its administrative practice, Commerce has interpreted “substantially all” to represent producers accounting for at least 85 percent of U.S. production of the domestic like product.⁸

⁷ See section 782(h) of the Act; and 19 CFR 351.222(g).

⁸ See, e.g., Honey from Argentina: Antidumping and Countervailing Duty Changed Circumstances Reviews; Preliminary Intent to Revoke Antidumping and Countervailing Duty Orders, 77 FR 67790, 67791 (November 14, 2012), unchanged in Honey from Argentina: Final Results of Antidumping and Countervailing Duty Changed Circumstances Reviews; Revocation of Antidumping and Countervailing Duty Orders, 77 FR 77029 (December 31, 2012).

Hello Tech submitted a letter from the Alliance, a coalition of domestic producers of the domestic like product, which stated that the Alliance did not oppose the changed circumstances reviews or the specific exclusion language proposed by Hello Tech.⁹ In that letter, the Alliance did not indicate its share of production of the domestic like product.¹⁰ Thus, Commerce was unable to determine, at the time that it initiated these CCRs, whether producers accounting for substantially all of the U.S. production of the domestic like product lacked interest in the Orders with respect to the off-grid small portable CSPV panels under consideration here. As a result, Commerce did not issue a combined notice of initiation and preliminary results in these CCRs.¹¹ Instead, as stated above, in the Initiation Notice, Commerce invited interested parties to provide comments and/or factual information regarding these CCRs, including comments on industry support and the proposed partial revocation language. No party submitted comments. Accordingly, we find that the domestic industry has expressed no opposition with respect to the proposed revocation, in part, of the Orders.

⁹ See CCR Request at Exhibit 7.

¹⁰ Id.; see also Initiation Notice.

¹¹ See Initiation Notice.

In light of the Alliance's statement of lack of interest in maintaining the Orders with respect to the off-grid small portable CSPV panels described by Hello Tech, and in the absence of any other interested party comments addressing the issue of domestic industry support, we preliminarily conclude that producers accounting for substantially all of the production of the domestic like product to which the Orders pertain lack interest in the relief provided by the Orders with respect to the off-grid small portable CSPV panels that are the subject of Hello Tech's CCR request. Thus, we preliminarily determine that changed circumstances warrant revocation of the Orders, in part, with respect to such panels. Accordingly, we are notifying the public of our intent to revoke the Orders, in part, with respect to the off-grid small portable CSPV panels described in the “Scope of the CCRs” section above.

If we make a final determination to revoke the Orders in part, then Commerce will apply this determination to each order as follows. Because we have completed administrative reviews of the Orders, the partial revocation will be retroactively applied to unliquidated entries of merchandise subject to the CCRs that were entered or withdrawn from warehouse, for consumption, on or after the day following the last day of the period covered by the most recently completed administrative reviews of the Orders, and which are not covered by automatic liquidation.

We will consider comments from interested parties on these preliminary results before issuing the final results of these CCRs.¹²

¹² See, e.g., Aluminum Extrusions from the People's Republic of China: Preliminary Results of Changed Circumstances Reviews, and Intent to Revoke Antidumping and Countervailing Duty Orders in Part, 78 FR 66895 (November 7, 2013); and 19 CFR 351.222(g)(3)(v).

Public Comment

Interested parties are invited to comment on these preliminary results of CCRs in accordance with 19 CFR 351.309(c)(1)(ii). Written comments may be submitted no later than 14 days after the date of publication of these preliminary results in the Federal Register. Rebuttal comments, limited to issues raised in written comments, may be filed no later than seven days after the due date for initial comments.¹³ All submissions must be filed electronically using Enforcement and Compliance's Antidumping and Countervailing Duty Centralized Electronic Service System (ACCESS).¹⁴ ACCESS is available to registered users at https://access.trade.gov. An electronically filed document must be successfully received in its entirety by ACCESS, by 5 p.m. Eastern Time on the deadlines set forth in this notice. Note that Commerce has temporarily modified certain of its requirements for serving documents containing business proprietary information, until further notice.¹⁵

¹³ See 19 CFR 351.309(d); see also Temporary Rule Modifying AD/CVD Service Requirements Due to COVID-19; Extension of Effective Period, 85 FR 41363 (July 10, 2020) (Temporary Rule).

¹⁴ See generally 19 CFR 351.303.

¹⁵ See Temporary Rule Modifying AD/CVD Service Requirements Due to COVID-19; Extension of Effective Period, 85 FR 29615 (May 18, 2020); and Temporary Rule.

Final Results of the CCRs

Commerce will issue the final results of these CCRs, which will include its analysis of any written comments, no later than 270 days after the date on which these reviews were initiated.¹⁶ If, in the final results of these reviews, Commerce continues to determine that changed circumstances warrant the revocation of the Orders, in part, we will instruct U.S. Customs and Border Protection (CBP) to liquidate without regard to ADs or CVDs, and to refund any estimated ADs and CVDs deposited on all unliquidated entries of the merchandise covered by the revocation that are not covered by the final results of an administrative review or an automatic liquidation instruction to CBP. The current requirement for cash deposits of estimated ADs and CVDs on all entries of subject merchandise will continue unless they are modified pursuant to the final results of these changed CCRs.

¹⁶ See 19 CFR 351.216(e).

These preliminary results of these reviews and this notice are published in accordance with sections 751(b) and 777(i) of the Act and 19 CFR 351.216, 19 CFR 351.221(c)(3), and 19 CFR 351.222.

Dated: February 27, 2023.
Abdelali Elouaradia,
Deputy Assistant Secretary for Enforcement and Compliance.

[FR Doc. 2023-04576 Filed 3-6-23; 8:45 am]

BILLING CODE 3510-DS-P